DEPARTMENT OF ENERGY

Federal Energy Regulatory Commission

Combined Notice of Filings #1

Take notice that the Commission received the following electric corporate filings:

Docket Numbers: EC13-142-000.

Applicants: Osage Wind, LLC.

Description: Application for Authorization of Transaction under Section 203 of the Federal Power Act of Osage Wind, LLC.

Filed Date: 8/29/13.

Accession Number: 20130829-5196.

Comments Due: 5 p.m. ET 9/19/13.

Take notice that the Commission received the following electric rate filings:

Docket Numbers: ER10-2881-008; ER10-2882-008; ER10-2883-008; ER10-2884-008; ER10-2885-008; ER10-2641-008; ER10-2663-008; ER10-2886-008; ER13-1101-003; ER13-1541-002.

Applicants: Alabama Power Company, Southern Power Company, Mississippi Power Company, Georgia Power Company, Gulf Power Company, Oleander Power Project, Limited Partnership, Southern Company—Florida LLC, Southern Turner Cimarron I, LLC, Spectrum Nevada Solar, LLC, Camp Verde Solar, LLC.

Description: Notice of Non-Material Change in Status of Alabama Power Company, et al.

Filed Date: 8/30/13.

Accession Number: 20130830-5199.

Comments Due: 5 p.m. ET 9/20/13.

Docket Numbers: ER13-2284-000.

Applicants: Southwest Power Pool, Inc.

Description: 2065R2 Westar Energy, Inc. NITSA and NOA to be effective 8/1/2013.

Filed Date: 8/29/13.

Accession Number: 20130829-5180.

Comments Due: 5 p.m. ET 9/19/13.

Docket Numbers: ER13-2285-000.

Applicants: PJM Interconnection, L.L.C.

Description: Revisions to PJM OATT & OA re Day-ahead Energy Market Clearing to be effective 10/28/2013.

Filed Date: 8/29/13.

Accession Number: 20130829-5185.

Comments Due: 5 p.m. ET 9/19/13.

Docket Numbers: ER13-2286-000.

Applicants: PJM Interconnection, L.L.C.

Description: Queue Position S14; Original SA No. 3634 to be effective 7/31/2013.

Filed Date: 8/30/13.

Accession Number: 20130830-5068.

Comments Due: 5 p.m. ET 9/20/13.

Docket Numbers: ER13-2287-000.

Applicants: Southern California Edison Company.

Description: GIA and Distribution Service Agreement with Carson Cogeneration Company to be effective 9/1/2013.

Filed Date: 8/30/13.

Accession Number: 20130830-5072.

Comments Due: 5 p.m. ET 9/20/13.

Docket Numbers: ER13-2288-000.

Applicants: AEP Texas Central Company, AEP Texas North Company.

Description: TCC-TNC-South Texas Electric Cooperative And & Restated TSA to be effective 8/8/2013.

Filed Date: 8/30/13.

Accession Number: 20130830-5073.

Comments Due: 5 p.m. ET 9/20/13.

Docket Numbers: ER13-2289-000.

Applicants: AEP Texas North Company.

Description: TCC-TNC-South Texas EC And & Restated TSA Concurrence to be effective 8/8/2013.

Filed Date: 8/30/13.

Accession Number: 20130830-5074.

Comments Due: 5 p.m. ET 9/20/13.

Docket Numbers: ER13-2290-000.

Applicants: AEP Texas North Company, AEP Texas Central Company.

Description: TCC-TNC-Texas New Mexico Power Company ERCOT TSA to be effective 8/8/2013.

Filed Date: 8/30/13.

Accession Number: 20130830-5075.

Comments Due: 5 p.m. ET 9/20/13.

Docket Numbers: ER13-2291-000.

Applicants: AEP Texas North Company.

Description: TCC-TNC-Texas New Mexico Power Company ERCOT TSA Concurrence to be effective 8/8/2013.

Filed Date: 8/30/13.

Accession Number: 20130830-5077.

Comments Due: 5 p.m. ET 9/20/13.

Docket Numbers: ER13-2292-000.

Applicants: New England Power Pool Participants Committee.

Description: September 2013. Membership Filing to be effective 8/1/2013.

Filed Date: 8/30/13.

Accession Number: 20130830-5104.

Comments Due: 5 p.m. ET 9/20/13.

Docket Numbers: ER13-2293-000.

Applicants: EDP Renewables North America LLC.

Description: Petition for Limited Waiver of Tariff Provision and Request for Expedited Action of EDP Renewables North America LLC.

Filed Date: 8/30/13.

Accession Number: 20130830-5117.

Comments Due: 5 p.m. ET 9/13/13.

Docket Numbers: ER13-2294-000.

Applicants: Public Service Company of New Mexico.

Description: Modification to Section 18.3 and Schedule 7 to be effective 11/1/2013.

Filed Date: 8/30/13.

Accession Number: 20130830-5118.

Comments Due: 5 p.m. ET 9/20/13.

Docket Numbers: ER13-2295-000.

Applicants: Midcontinent Independent System Operator, Inc.

Description: 08-30-2013 TCDC Filing to be effective 11/15/2013.

Filed Date: 8/30/13.

Accession Number: 20130830-5120.

Comments Due: 5 p.m. ET 9/20/13.

Docket Numbers: ER13-2296-000.

Applicants: California Independent System Operator Corporation.

Description: 2013-08-30_CommitmentCosts to be effective 11/1/2013.

Filed Date: 8/30/13.

Accession Number: 20130830-5134.

Comments Due: 5 p.m. ET 9/20/13.

Docket Numbers: ER13-2297-000.

Applicants: Midcontinent Independent System Operator, Inc.

Description: 08-30-2013 ATC Att GG NUC & Annual Rate Filing to be effective 9/20/2013.

Filed Date: 8/30/13.

Accession Number: 20130830-5146.

Comments Due: 5 p.m. ET 9/20/13.

Docket Numbers: ER13-2298-000.

Applicants: Midcontinent Independent System Operator, Inc.

Description: 08-30-2013 Module E-1 LRR to be effective 10/29/2013.

Filed Date: 8/30/13.

Accession Number: 20130830-5151.

Comments Due: 5 p.m. ET 9/20/13.

Docket Numbers: ER13-2299-000.

Applicants: Midcontinent Independent System Operator, Inc.

Description: Request for Partial Waiver and Motion for Expedited Action of Midcontinent Independent System Operator, Inc.

Filed Date: 8/30/13.

Accession Number: 20130830-5169.

Comments Due: 5 p.m. ET 9/9/13.

Take notice that the Commission received the following electric securities filings:

Docket Numbers: ES13-38-000.

Applicants: MDU Resources Group, Inc.

Description: MDU Resources Group, Inc.'s Second Amendment to July 30, 2013 Application to increase its short term borrowings.

Filed Date: 8/30/13.

Accession Number: 20130830-5170.

Comments Due: 5 p.m. ET 9/9/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 30, 2013.
Nathaniel J. Davis, Sr.,
Deputy Secretary.

[FR Doc. 2013-21961 Filed 9-9-13; 8:45 am]

BILLING CODE 6717-01-P